DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with December anniversary dates. In accordance with the Department's regulations, we are initiating those administrative reviews.

DATES: Effective date: February 9, 2016.

FOR FURTHER INFORMATION CONTACT: Brenda E. Waters, Office of AD/CVD Operations, Customs Liaison Unit, Enforcement and Compliance, International Trade Administration, U.S. Department of Commerce, 14th Street and Constitution Avenue NW, Washington, DC 20230, telephone: (202) 482-4735.

SUPPLEMENTARY INFORMATION:

Background

The Department has received timely requests, in accordance with 19 CFR 351.213(b), for administrative reviews of various antidumping and countervailing duty orders and findings with December anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Respondent Selection—Crystalline Silicon Photovoltaic Cells, Whether or Not Assembled Into Modules (“Solar Cells and Modules”), From the People's Republic of China (“PRC”)

In the event the Department limits the number of respondents for individual examination in the administrative review of the antidumping duty order on solar cells and modules from the PRC, the Department intends to select respondents based on volume data contained in responses to Q&V Questionnaires. Further, the Department intends to limit the number of Q&V Questionnaires issued in the review based on CBP data for U.S. imports of solar cells and solar modules from the PRC. The units used to measure the imported quantities of solar cells and solar modules are “number”; however, it would not be meaningful to sum the number of imported solar cells and the number of imported solar modules in attempting to determine the largest PRC exporters of subject merchandise by volume. Therefore, the Department will limit the number of Q&V Questionnaires issued based on the import values in CBP data which will serve as a proxy for imported quantities. Parties subject to the review to which the Department does not send a Q&V Questionnaire may file a response to the Q&V Questionnaire by the applicable deadline if they desire to be included in the pool of companies from which the Department will select mandatory respondents. The Q&V Questionnaire will be available on the Department's Web site at http://trade.gov/enforcement/news.asp on the date of publication of this notice in the Federal Register. The responses to the Q&V Questionnaire must be received by the Department no later than 21 days after the signature date of this initiation notice. Please be advised that due to the time constraints imposed by the statutory and regulatory deadlines for antidumping duty administrative reviews, the Department does not intend to grant any extensions for the submission of responses to the Q&V Questionnaire. Parties will be given the opportunity to comment on the CBP data used by the Department to limit the number of Q&V Questionnaires issued. We intend to place CBP data on the record within five days of publication of this notice in the Federal Register. Comments regarding the CBP data and respondent selection should be submitted seven days after placement of the CBP data on the record.

Respondent Selection—Multilayered Wood Flooring, From the PRC

In the event that the Department limits the number of respondents for individual examination in the administrative review of the antidumping duty order on multilayered wood flooring from the PRC, the Department intends to select respondents based on volume data contained in responses to Q&V Questionnaires. Further, the Department intends to limit the number of Q&V Questionnaires issued in the review based on CBP data for U.S. imports of multilayered wood flooring from the PRC. Since the units used to measure import quantities are not consistent across the Harmonized Tariff Schedule of the United States headings identified in the scope of the order on multilayered wood flooring from the PRC, it would not be meaningful to sum inconsistent units in attempting to determine the largest PRC exporters of subject merchandise by volume. Therefore, the Department will limit the number of Q&V Questionnaires issued based on the import values in CBP data which will serve as a proxy for import quantities. Parties subject to the review to which the Department does not send a Q&V Questionnaire may file a response to the Q&V Questionnaire by the applicable deadline if they desire to be included in the pool of companies from which the Department will select mandatory respondents. The Q&V Questionnaire will be available on the Department's Web site at http://trade.gov/enforcement/news.asp on the date of publication of this notice in the Federal Register. The responses to the Q&V Questionnaire must be received by the Department no later than 21 days after the signature date of this initiation notice. Please be advised that due to the time constraints imposed by the statutory and regulatory deadlines for antidumping duty administrative reviews, the Department does not intend to grant any extensions for the submission of responses to the Q&V Questionnaire. Parties will be given the opportunity to comment on the CBP data used by the Department to limit the number of Q&V Questionnaires issued. We intend to place CBP data on the record within five days of publication of this notice in the Federal Register. Comments regarding the CBP data and respondent selection should be submitted seven days after placement of the CBP data on the record.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name ³, should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than December 31, 2016.

| Period to be reviewed
Antidumping Duty Proceedings
India: Certain Hot-Rolled Carbon Steel Flat Products A-533-820 | 12/1/14-11/30/15
Ispat Industries, Ltd.
JSW ISPAT Steel, Ltd.
JSW Steel, Ltd.
Tata Steel, Ltd.
Republic of Korea: Certain Circular Welded Non-Alloy Steel Pipe ⁴ A-580-809 | 11/1/14-10/31/15
Hyundai Steel
Republic of Korea: Welded ASTM A-312 Stainless Steel Pipe A-580-810 | 12/1/14-11/30/15
SeAH Steel Corporation
LS Metal Co., Ltd.
Russia: Certain Hot-Rolled Carbon Steel Flat Products A-821-809 | 12/19/14-11/30/15
Severstal Export GmbH
PAO Severstal
Taiwan: Steel Wire Garment Hangers A-583-849 | 12/1/14-11/30/15
Golden Canyon Limited
Intini Co., Ltd.
Mindful Life and Coaching Co., Ltd.
Ocean Concept Corporation
Taiwan Hanger Manufacturing Co., Ltd.
Young Max Enterprises Co. Ltd.
The People's Republic of China: Cased Pencils A-570-827 | 12/1/14-11/30/15
Orient International Holding Shanghai Foreign Trade Co. Ltd.
Shandong Rongxin Import & Export Co., Ltd.
Wah Yuen Stationery Co. Ltd.
Shandong Wah Yuen Stationery Co. Ltd.
Tianjian Tonghe Stationery Co. Ltd
The People's Republic of China: Crystalline Silicon Photovoltaic Cells, Whether or Not Assembled into Modules A-570-979 | 12/1/14-11/30/15
Canadian Solar Inc.
Canadian Solar International Limited
Canadian Solar Manufacturing (Changshu) Inc.
Canadian Solar Manufacturing (Luoyang) Inc.
Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd.
Chint Solar (Zhejiang) Co., Ltd.
Dongguan Sunworth Solar Energy Co., Ltd.
ERA Solar Co., Ltd.
ET Solar Energy Limited
Hangzhou Sunny Energy Science and Technology Co., Ltd
Hengdian Group DMEGC Magnetics Co., Ltd.
JA Solar Technology Yangzhou Co., Ltd.
Jiangsu High Hope Int'l Group
Jiangsu Sunlink PV Technology Co., Ltd.
Jiawei Solarchina (Shenzhen) Co., Ltd.
Jiawei Solarchina Co., Ltd.
JingAo Solar Co., Ltd.
Jinko Solar Co., Ltd.
Jinko Solar Import and Export Co., Ltd.
JinkoSolar International Limited
Lightway Green New Energy Co., Ltd.
Ningbo ETDZ Holdings, Ltd.
Ningbo Hisheen Electrical Co., Ltd.
Ningbo Qixin Solar Electrical Appliance Co., Ltd.
Risen Energy Co., Ltd.
Shanghai BYD Co., Ltd.
Shanghai JA Solar Technology Co., Ltd.
Shenzhen Glory Industries Co., Ltd.
Shenzhen Sungold Solar Co., Ltd.
Shenzhen Topray Solar Co., Ltd.
Star Power International Limited
Systemes Versilis, Inc.
Taizhou BD Trade Co., Ltd.
tenKsolar (Shanghai) Co., Ltd.
Toenergy Technology Hangzhou Co., Ltd.
Wuxi Suntech Power Co., Ltd/Luoyang Suntech Power Co., Ltd.
Wuxi Tianran Photovoltaic Co., Ltd.
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd.
BYD (Shangluo) Industrial Co., Ltd.
Yingli Green Energy International Trading Company Limited
Zhejiang Era Solar Technology Co., Ltd
Zhejiang Jinko Solar Co., Ltd.
Zhejiang Sunflower Light Energy Science & Technology Limited Liability Company
Zhongli Talesun Solar Co. Ltd.
The People's Republic of China: Honey A-570-863 | 12/1/14-11/30/15
Wuhu Haoyikuai Imp & Emp
Shanghai Sunbeauty Trading
Shanghai Sha Mei Trade Co., Ltd.
The People's Republic of China: Multilayered Wood Flooring A-570-970 | 12/1/14-11/30/15
A&W (Shanghai) Woods Co., Ltd.
Anhui Boya Bamboo&Wood Products Co., Ltd.
Anhui Longhua Bamboo Product Co., Ltd.
Anhui Suzhou Dongda Wood Co., Ltd.
Baishan Huafeng Wood Product Co., Ltd.
Baiying Furniture Manufacturer Co., Ltd.
Benxi Wood Company
Changbai Mountain Development and Protection Zone Hongtu Wood Industrial Co., Ltd.
Changzhou Hawd Flooring Co., Ltd.
Cheng Hang Wood Co., Ltd.
Chinafloors Timber (China) Co., Ltd.
Dalian Dajen Wood Co., Ltd.
Dalian Huade Wood Product Co., Ltd.
Dalian Huilong Wooden Products Co., Ltd.
Dalian Jiahong Wood Industry Co., Ltd
Dalian Jiuyuan Wood Industry Co., Ltd.
Dalian Kemian Wood Industry Co., Ltd.
Dalian Penghong Floor Products Co., Ltd.
Dalian Qianqiu Wooden Product Co., Ltd.
Dalian T-Boom Wood Products Co., Ltd.
Dalian Xinjinghua Wood Co., Ltd.
Dongtai Fuan Universal Dynamics, LLC
Dongtai Zhangshi Wood Industry Co. Ltd.
Dun Hua City Jisen Wood Industry Co., Ltd.
Dun Hua Sen Tai Wood Co., Ltd.
Dunhua City Dexin Wood Industry Co., Ltd.
Dunhua City Hongyuan Wood Industry Co., Ltd.
Dunhua City Wanrong Wood Industry Co., Ltd.
Fine Furniture (Shanghai) Limited and Double F Limited Fu Lik Timber (HK) Co., Ltd.
Fusong Jinlong Wooden Group Co., Ltd.
Fusong Jinqiu Wooden Product Co., Ltd.
Fusong Qianqiu Wooden Product Co., Ltd.
GTP International Ltd.
Guangdong Yihua Timber Industry Co., Ltd.
Guangzhou Homebon Timber Manufacturing Co., Ltd.
Guangzhou Panyu Kangda Board Co., Ltd.
Guangzhou Panyu Southern Star Co., Ltd.
HaiLin LinJing Wooden Products, Ltd.
HaiLin XinCheng Wooden Products, Ltd.
Hangzhou Dazhuang Floor Co., Ltd. (dba Dasso Industrial Group Co., Ltd.)
Hangzhou Hanje Tec Co., Ltd.
Hangzhou Huahi Wood Industry Co., Ltd.
Henan Xingwangjia Technology Co., Ltd.
Huber Engineering Wood Corp.
Hunchun Forest Wolf Wooden Industry Co., Ltd.
Hunchun Xingjia Wooden Flooring Inc.
Huzhou City Nanxun Guangda Wood Co., Ltd.
Huzhou Chenghang Wood Co., Ltd.
Huzhou Fulinmen Imp. & Exp. Co., Ltd.
Huzhou Fuma Wood Co., Ltd.
Huzhou Jesonwood Co., Ltd.
Huzhou Muyun Wood Co., Ltd.
Huzhou Sunergy World Trade Co., Ltd.
Jiafeng Wood (Suzhou) Co., Ltd.
Jiangsu Guyu International Trading Co., Ltd.
Jiangsu Keri Wood Co., Ltd.
Jiangsu Kentier Wood Co., Ltd.
Jiangsu Mingle Flooring Co.
Jiangsu Senmao Bamboo and Wood Industry Co., Ltd.
Jiangsu Simba Flooring Co., Ltd.
Jiangsu Yuhui International Trade Co., Ltd.
Jiashan Huijiale Decoration Material Co., Ltd.
Jiashan On-Line Lumber Co., Ltd.
Jiaxing Hengtong Wood Co., Ltd.
Jilin Forest Industry Jinqiao Flooring Group Co., Ltd.
Jilin Xinyuan Wooden Industry Co., Ltd.
Karly Wood Product Limited
Kember Hardwood Flooring, Inc.
Kemian Wood Industry (Kunshan) Co., Ltd.
Kingman Floors Co., Ltd.
Linyi Anying Wood Co., Ltd.
Linyi Bonn Flooring Manufacturing Co., Ltd.
Linyi Youyou Wood Co., Ltd.
Metropolitan Hardwood Floors, Inc.
Mudanjiang Bosen Wood Industry Co., Ltd.
Nakahiro Jyou Sei Furniture (Dalian) Co., Ltd.
Pinge Timber Manufacturing (Zhejiang) Co., Ltd.
Puli Trading Limited
Qingdao Barry Flooring Co., Ltd
Scholar Home (Shanghai) New Material Co. Ltd.
Shandong Kaiyuan Wood Industry Co., Ltd.
Shanghai Anxin (Weiguang) Timber Co., Ltd.
Shanghai Eswell Timber Co., Ltd.
Shanghai Lairunde Wood Co., Ltd.
Shanghai New Sihe Wood Co., Ltd.
Shanghai Shenlin Corporation
Shenyang Haobainian Wooden Co., Ltd.
Shenyang Senwang Wooden Industry Co., Ltd.
Shenzhenshi Huanwei Woods Co., Ltd.
Sino-Maple (Jiangsu) Co., Ltd.
Suzhou Dongda Wood Co., Ltd.
Tongxiang Jisheng Import and Export Co., Ltd.
Vicwood Industry (Suzhou) Co. Ltd.
Xiamen Yung De Ornament Co., Ltd.
Xuzhou Antop International Trade Co., Ltd.
Xuzhou Shenghe Wood Co., Ltd.
Yekalon Industry, Inc.
Yingyi-Nature (Kunshan) Wood Industry Co., Ltd.
Yixing Lion-King Timber Industry
Zhejiang AnJi Xinfeng Bamboo and Wood Industry Co., Ltd.
Zhejiang Biyork Wood Co., Ltd.
Zhejiang Dadongwu Green Home Wood Co., Ltd.
Zhejiang Desheng Wood Industry Co., Ltd.
Zhejiang Fudeli Timber Industry Co., Ltd.
Zhejiang Fuerjia Wooden Co., Ltd.
Zhejiang Fuma Warm Technology Co., Ltd.
Zhejiang Haoyun Wooden Co., Ltd.
Zhejiang Jiechen Wood Industry Co., Ltd.
Zhejiang Longsen Lumbering Co., Ltd.
Zhejiang Shiyou Timber Co., Ltd.
Zhejiang Shuimojiangnan New Material Technology Co., Ltd.
United Arab Emirates: Polyethylene Terephthalate (PET) Film, Sheet and Strip ⁵ A-520-803 | 11/1/14-10/31/15
JBF RAK LLC
Countervailing Duty Proceedings
The People's Republic of China: Certain New Pneumatic Off-The-Road Tires ⁶ C-570-913 | 1/1/14-12/31/14
Kenda Rubber (China) Co Ltd.
The People's Republic of China: Crystalline Silicon Photovoltaic Cells, Whether or Not Assembled into Modules C-570-980 | 1/1/14-12/31/14
Baoding Jiasheng Photovoltaic Technology Co. Ltd.
Baoding Tianwei Yingli New Energy Resources Co., Ltd.
Beijing Tianneng Yingli New Energy Resources Co. Ltd.
BYD (Shangluo) Industrial Co., Ltd.
Canadian Solar Inc.
Canadian Solar International, Ltd.
Canadian Solar Manufacturing (Changshu), Inc.
Canadian Solar Manufacturing (Luoyang), Inc.
Changzhou Trina Solar Energy Co., Ltd.
Changzhou Trina Solar Yabang Energy Co., Ltd.
Chint Solar (Zhejiang) Co., Ltd.
ERA Solar Co. Limited
ET Solar Energy Limited
ET Solar Industry Limited
Hainan Yingli New Energy Resources Co., Ltd.
Hangzhou Sunny Energy Science and Technology Co., Ltd.
Hengshui Yingli New Energy Resources Co., Ltd.
JA Solar Technology Yangzhou Co., Ltd.
Jiawei Solarchina Co., Ltd.
Jiawei Solarchina (Shenzhen) Co., Ltd.
JingAo Solar Co., Ltd.
Jinko Solar Co., Ltd.
Jinko Solar Import and Export Co., Ltd.
JinkoSolar (U.S.) Inc.
JinkoSolar International Limited
Lightway Green New Energy Co., Ltd.
Lixian Yingli New Energy Resources Co., Ltd.
Luoyang Suntech Power Co., Ltd.
Ningbo Qixin Solar Electrical Appliance Co., Ltd.
Shanghai JA Solar Technology Co., Ltd.
Shanghai BYD Co., Ltd.
Shenzhen Topray Solar Co. Ltd.
Systemes Versilis, Inc.
Taizhou BD Trade Co., Ltd.
tenKsolar (Shanghai) Co., Ltd.
Tianjin Yingli New Energy Resources Co., Ltd.
Toenergy Technology Hangzhou Co., Ltd.
Trina Solar (Changzhou) Science and Technology Co., Ltd.
Wuxi Suntech Power Co., Ltd.
Yancheng Trina Solar Energy Technology Co., Ltd.
Yingli Energy (China) Co., Ltd.
Yingli Green Energy Holding Company Limited
Yingli Green Energy International Trading Company Limited
Zhejiang Jinko Solar Co., Ltd.
Zhejiang Sunflower Light Energy Science & Technology Liability Company
The People's Republic of China: Lightweight Thermal Paper ⁷ C-570-921 | 1/1/14-12/31/14
Hangong International Limited
Jaan Huey Co. Ltd.
Shanghai Hanhong Paper Co Ltd.
The People's Republic of China: Multilayered Wood Flooring C-570-971 | 1/1/14-12/31/14
A&W (Shanghai) Woods Co., Ltd.
Anhui Boya Bamboo & Wood Products Co., Ltd.
Anhui Longhua Bamboo Product Co., Ltd.
Baishan Huafeng Wood Product Co., Ltd.
Baroque Timber Industries (Zhongshan) Co., Ltd.
Baiying Furniture Manufacturer Co., Ltd.
Benxi Wood Company
Changbai Mountain Development and Protection Zone Hongtu Wood Industrial Co., Ltd.
Changzhou Hawd Flooring Co., Ltd.
Cheng Hang Wood Co., Ltd.
Chinafloors Timber (China) Co., Ltd.
Dalian Dajen Wood Co., Ltd.
Dalian Huade Wood Product Co., Ltd.
Dalian Huilong Wooden Products Co., Ltd.
Dalian Jiahong Wood Industry Co., Ltd
Dalian Jiuyuan Wood Industry Co., Ltd.
Dalian Kemian Wood Industry Co., Ltd.
Dalian Penghong Floor Products Co., Ltd.
Dalian T-Boom Wood Products Co., Ltd.
Dalian Xinjinghua Wood Co., Ltd.
Dongtai Fuan Universal Dynamics, LLC
Dongtai Zhangshi Wood Industry Co. Ltd.
Double F Limited
Dunhua City Jisen Wood Industry Co., Ltd.
Dun Hua Sen Tai Wood Co., Ltd.
Dunhua City Dexin Wood Industry Co., Ltd.
Dunhua City Hongyuan Wood Industry Co., Ltd.
Dunhua City Wanrong Wood Industry Co., Ltd.
Fine Furniture (Shanghai) Limited
Fu Lik Timber (HK) Co., Ltd.
Fusong Jinlong Wooden Group Co., Ltd.
Fusong Qianqiu Wooden Product Co., Ltd.
GTP International Ltd.
Guangdong Yihua Timber Industry Co., Ltd.
Guangzhou Homebon Timber Manufacturing Co., Ltd.
Guangzhou Panyu Kangda Board Co., Ltd.
Guangzhou Panyu Southern Star Co., Ltd.
HaiLin LinJing Wooden Products, Ltd.
HaiLin XinCheng Wooden Products, Ltd.
Hangzhou Dazhuang Floor Co., Ltd. (dba Dasso Industrial Group Co., Ltd.)
Hangzhou Hanje Tec Co., Ltd.
Hangzhou Huahi Wood Industry Co., Ltd.
Henan Xingwangjia Technology Co., Ltd.
Huber Engineering Wood Corp.
Hunchun Forest Wolf Wooden Industry Co., Ltd.
Hunchun Xingjia Wooden Flooring Inc.
Huzhou Chenghang Wood Co., Ltd.
Huzhou City Nanxun Guangda Wood Co., Ltd.
Huzhou Fulinmen Imp. & Exp. Co., Ltd.
Huzhou Fuma Wood Co., Ltd.
Huzhou Jesonwood Co., Ltd.
Huzhou Muyun Wood Co., Ltd.
Huzhou Sunergy World Trade Co., Ltd.
Jiafeng Wood (Suzhou) Co., Ltd.
Jiangsu Guyu International Trading Co., Ltd.
Jiangsu Keri Wood Co., Ltd.
Jiangsu Mingle Flooring Co., Ltd.
Jiangsu Senmao Bamboo and Wood Industry Co., Ltd.
Jiangsu Simba Flooring Co., Ltd.
Jiashan HuiJiaLe Decoration Material Co., Ltd.
Jiashan On-Line Lumber Co., Ltd.
Jiaxing Hengtong Wood Co., Ltd.
Jilin Forest Industry Jinqiao Flooring Group Co., Ltd.
Jilin Xinyuan Wooden Industry Co., Ltd.
Karly Wood Product Limited
Kemian Wood Industry (Kunshan) Co., Ltd.
Kingman Floors Co., Ltd.
Linyi Anying Wood Co., Ltd.
Linyi Bonn Flooring Manufacturing Co., Ltd.
Linyi Youyou Wood Co., Ltd.
Mudanjiang Bosen Wood Industry Co., Ltd.
Nakahiro Jyou Sei Furniture (Dalian) Co., Ltd.
Nanjiing Minglin Wooden Industry Co., Ltd.
Pinge Timber Manufacturing (Zhejiang) Co., Ltd.
Puli Trading Limited
Qingdao Barry Flooring Co., Ltd
Riverside Plywood Corporation
Samling Elegant Living Trading (Labuan) Limited
Samling Riverside Co., Ltd.
Shandong Kaiyuan Wood Industry Co., Ltd.
Shanghai Anxin (Weiguang) Timber Co., Ltd.
Shanghai Eswell Timber Co., Ltd.
Shanghai Lairunde Wood Co., Ltd.
Shanghai Lizhong Wood Products Co., Ltd. (also known as The Lizhong Wood Industry
Limited Company of Shanghai)
Shanghai New Sihe Wood Co., Ltd.
Shanghai Shenlin Corporation
Shenyang Haobainian Wooden Co., Ltd.
Shenyang Senwang Wooden Industry Co., Ltd.
Shenzhenshi Huanwei Woods Co., Ltd.
Sino-Maple (Jiangsu) Co., Ltd.
Suzhou Dongda Wood Co., Ltd.⁸
Tongxiang Jisheng Import and Export Co., Ltd.
Vicwood Industry (Suzhou) Co. Ltd.
Xiamen Yung De Ornament Co., Ltd.
Xuzhou Antop International Trade Co., Ltd.
Xuzhou Shenghe Wood Co., Ltd.
Yekalon Industry, Inc.
Yingyi-Nature (Kunshan) Wood Industry Co., Ltd.
Yixing Lion-King Timber Industry Co., Ltd.
Zhejiang Anji Xinfeng Bamboo and Wood Industry Co., Ltd.
Zhejiang Biyork Wood Co., Ltd.
Zhejiang Dadongwu Green Home Wood Co., Ltd.
Zhejiang Desheng Wood Industry Co., Ltd.
Zhejiang Fudeli Timber Industry Co., Ltd.
Zhejiang Fuerjia Wooden Co., Ltd.
Zhejiang Fuma Warm Technology Co., Ltd.
Zhejiang Haoyun Wooden Co., Ltd.
Zhejiang Longsen Lumbering Co., Ltd.
Zhejiang Shiyou Timber Co., Ltd.
Zhejiang Shuimojiangnan New Material Technology Co., Ltd.
Suspension Agreements
Mexico: Sugar A-201-845 | 12/19/14-11/30/15
Mexico: Sugar ⁹C-201-846 | 12/19/14- 12/31/14

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

⁴ The company listed above was inadvertently omitted from the initiation notice that published on January 7, 2016 (81 FR 736).

⁵ The name of the company listed below was misspelled in the initiation notice that published on January 7, 2016 (81 FR 736). The correct spelling of the company name is listed in this notice.

⁶ The name of the company listed below was misspelled in the initiation notice that published on November 9, 2015 (80 FR 69193). The correct spelling of the company name is listed in this notice.

⁷ In the initiation notice covering cases with November anniversary dates, the Department inadvertently omitted Lightweight Thermal Paper from the PRC. This is a correction to the January 7, 2016, initiation notice (81 FR 736).

⁸ The Department found that the official name of Anhui Suzhou Dongda Wood Co., Ltd. is Suzhou Dongda Wood Co., Ltd. See Multilayered Wood Flooring from the People's Republic of China: Final Results of Administrative Review of Countervailing Duty Order; 2012 and accompanying Issues and Decision Memorandum at 24.

⁹ Imperial Sugar Company and the American Sugar Coalition have requested that the period of review for this review be extended to include not only the period 12/19/14-12/31/14 but also calendar year 2015. We are initiating this review for the period 12/19/14-12/31/14; however, we are actively considering these requests, and we will solicit comments from interested parties on this issue. After careful consideration of these comments, we will timely inform parties of our decision.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.¹⁰ Parties are hereby reminded that revised certification requirements are in effect for company/government officials as well as their representatives. All segments of any antidumping duty or countervailing duty proceedings initiated on or after August 16, 2013, should use the formats for the revised certifications provided at the end of the Final Rule.¹¹ The Department intends to reject factual submissions in any proceeding segments if the submitting party does not comply with applicable revised certification requirements.

¹⁰ See section 782(b) of the Act.

¹¹ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: February 3, 2016.
Christian Marsh,
Deputy Assistant Secretary for Antidumping and Countervailing Duty Operations.

[FR Doc. 2016-02578 Filed 2-8-16; 8:45 am]

BILLING CODE 3510-DS-P